DEPARTMENT OF COMMERCE

National Oceanic and Atmospheric Administration

[I.D. 021506F]

Gulf of Mexico Fishery Management Council; Public Meetings

AGENCY: National Marine Fisheries Service (NMFS), National Oceanic and Atmospheric Administration (NOAA), Commerce.

ACTION: Notice of Closed Session Scientific and Statistical Committee (SSC) Selection Committee Conference Call.

SUMMARY: The Gulf of Mexico Fishery Management Council (Council) will convene its SSC Selection Committee via conference call to select members for an Ad Hoc Shrimp Effort Working Group for recommendation to the Council.

DATES: The conference call will be held on Wednesday, March 8, 2006.

ADDRESSES: The meeting will be held via closed session conference call.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council (Council) will convene its SSC Selection Committee in a closed session conference call on Wednesday, March 8, 2006 at 10 a.m. EST. The purpose of the meeting is to select members for an Ad Hoc Shrimp Effort Working Group for recommendation to the Council. The Committee recommendations will be presented to the Council at the March 20 - 23, 2006 Council meeting in Mobile, AL.

Special Accommodations

These meetings are physically accessible to people with disabilities. Requests for sign language interpretation or other auxiliary aids should be directed to Dawn Aring at the Council (see ADDRESSES) at least 5 working days prior to the meeting.

Dated: February 16, 2006.
Tracey L. Thompson,
Acting Director, Office of Sustainable Fisheries, National Marine Fisheries Service.

[FR Doc. E6-2442 Filed 2-21-06; 8:45 am]

BILLING CODE 3510-22-S